DEPARTMENT OF DEFENSE

Office of the Secretary

Cost Sharing Cooperative Agreement Applications

AGENCY: Defense Logistics Agency, DoD.

ACTION: Notice of solicitation for cost sharing cooperative agreement applications.

SUMMARY: The Defense Logistics Agency (DLA) executes the DoD Procurement Technical Assistance Program by awarding cost sharing cooperative agreements to assist states, local governments, private nonprofit organizations, tribal organizations and economic enterprises in establishing or maintaining procurement technical assistance centers (PTACs) pursuant to Chapter 142 of title 10, United States Code. These centers help business firms market their goods and services to the Department of Defense (DoD), other federal agencies, and state and local governments. The Consolidated Security, Disaster Assistance, and Continuing Appropriations Act, 2009 (Pub. L. 110-329) provided funds for the continuance of the program in FY 2009, requiring DoD to make available not less than $3.6 million for applicants that meet the definition of 10 U.S.C 2411 (1) (D).

At this time, limited additional funds are available and applications for additional new programs can be accepted. Therefore, notice is given that a new Solicitation for Cooperative Agreement Applications (SCAA) will be issued seeking applications for programs from eligible entities meeting the definition listed in Section II, paragraph 18.d. (Economic Enterprise) or paragraph 18.e. (Tribal Organization) of the SCAA. Further, applications will only be accepted from eligible entities that propose programs that will provide service to areas that are not currently receiving service from an existing program. The two existing PTACs service the following four Bureau of Indian Affairs Regions: Alaska, Eastern Oklahoma, Northwest, and Southern Plains. The provision prohibiting applications proposing to service areas currently covered by an existing program is absolute, and the provisions of Paragraph D. Duplicate Coverage of Section “V”, of the SCAA do not apply. Applications received from entities not meeting the definitions listed in Section II, paragraph 18.d. (Economic Enterprise) or 18.e. (Tribal Organization) of the SCAA and/or proposing areas receiving service from an existing program will be neither accepted nor evaluated. Otherwise, the provisions of Paragraph D. Duplicate Coverage of Section “V”, of the SCAA will apply when any unacceptable duplicate coverage is proposed.

The SCAA will be available for review on or about April 30, 2009 on the Internet Web site: http://www.dla.mil/db/scaa2009.pdf. Printed copies are not available for distribution. Applications must be submitted to DLA by 5 p.m., Eastern Time, on June 12, 2009. A notice will be posted at Grants.gov announcing the SCAA with details on submitting an application.

FOR FURTHER INFORMATION CONTACT: Ms. Christina Young at (703) 767-1656.

April 24, 2009.
Morgan E. Frazier,
Alternate OSD Federal Register Liaison Officer, Department of Defense.

[FR Doc. E9-9909 Filed 4-29-09; 8:45 am]

BILLING CODE 5001-06-P